ENVIRONMENTAL PROTECTION AGENCY

40 CFR Part 52

[EPA-R04-OAR-2023-0518; FRL-11955-01-R4]

Air Plan Approval; GA; Revisions to the State Implementation Plan Gasoline Transport Vehicles and Vapor Collection System Rule

AGENCY: Environmental Protection Agency (EPA).

ACTION: Proposed rule.

SUMMARY: The Environmental Protection Agency (EPA) is proposing to approve a State Implementation Plan (SIP) revision submitted by the Georgia Department of Natural Resources (GA DNR) Environmental Protection Division (EPD) on September 28, 2023, for the purpose of clarifying requirements for gasoline transport vehicles and making minor administrative changes. EPA is proposing to approve Georgia's September 28, 2023, SIP revision pursuant to the Clean Air Act (CAA or Act).

DATES: Comments must be received on or before June 17, 2024.

ADDRESSES: Submit your comments, identified by Docket ID No. EPA-R04-OAR-2023-0518 at regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Weston Freund, Air Regulatory Management Section, Air Planning and Implementation Branch, Air and Radiation Division, U.S. Environmental Protection Agency, Region 4, 61 Forsyth Street SW, Atlanta, Georgia 30303-8960. The telephone number is (404) 562-8773. Mr. Freund can also be reached via electronic mail at staff email freund.weston@epa.gov.

SUPPLEMENTARY INFORMATION:

I. EPA's Analysis of Georgia's Submittal

EPA is proposing to approve a SIP revision submitted by the Georgia EPD on September 28, 2023, amending Rule 391-3-1-.02(2)(ss), “Gasoline Transport Vehicles and Vapor Collection Systems” ¹ to clarify requirements for tank labeling and increase consistency with other rules. The SIP revision makes the following changes: replaces “paragraph” with “subparagraph” in Rule 391-3-1-.02(2)(ss)1.; adds “(month and year)” to Rule 391-3-1-.02(2)(ss)1.(ii) to clarify that “date” means month and year; changes the first letter of “subparagraph” to lower case in Rule 391-3-1-.02(2)(ss)2.(ii), and replaces “section” with “paragraph” in Rule 391-3-1-.02(2)(ss)3. to be consistent with the rest of the rule. EPA is proposing to approve these changes because they are administrative in nature and would therefore not interfere with any applicable requirement concerning attainment and reasonable further progress or any other applicable requirement of the CAA.²

¹ Table 1 to Paragraph (c)—EPA-Approved Georgia Regulations at 40 CFR 52.570(c) incorrectly refers to Rule 391-3-1-.02(2)(ss) as “Gasoline Transport Systems and Vapor Collection Systems” rather than “Gasoline Transport Vehicles and Vapor Collection Systems” as approved October 13, 1992. See 57 FR 46780. In addition to the revisions described herein, EPA is proposing to correct the title of Rule 391-3-1-.02(2)(ss) in 40 CFR 52.570(c) to accurately reflect the title as approved on October 13, 1992.

² See CAA section 110(l).

II. Incorporation by Reference

In this document, EPA is proposing to include in a final EPA rule regulatory text that includes incorporation by reference. In accordance with requirements of 1 CFR 51.5, and as discussed in Section I of this preamble, EPA is proposing to incorporate by reference Georgia Rule 391-3-1-.02(2)(ss), “Gasoline Transport Vehicles and Vapor Collection Systems”, which changes “paragraph” to “subparagraph” in Rule 391-3-1-.02(2)(ss)1., adds “(month and year)” to Rule 391-3-1-.02(2)(ss)1.(ii), changes “subparagraph” to lower case in Rule 391-3-1-.02(2)(ss)2.(ii), and changes “section” to “paragraph” in Rule 391-3-1-.02(2)(ss)3., state effective on September 17, 2023. EPA has made, and will continue to make, these materials generally available through www.regulations.gov and at the EPA Region 4 office (please contact the person identified in the For Further Information Contact section of this preamble for more information).

III. Proposed Action

EPA is proposing to approve the aforementioned Georgia SIP revision consisting of administrative changes to Rule 391-3-1-.02(2)(ss), “Gasoline Transport Vehicles and Vapor Collection Systems” for the reasons discussed above.

IV. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this proposed action merely proposes to approve state law as meeting Federal requirements and does not impose additional requirements beyond those imposed by state law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

GA EPD did not evaluate EJ considerations as part of its SIP submittal; the CAA and applicable implementing regulations neither prohibit nor require such an evaluation. EPA did not perform an EJ analysis and did not consider EJ in this proposed action. Due to the nature of the action being proposed here, this proposed action is expected to have a neutral to positive impact on the air quality of the affected area. Consideration of EJ is not required as part of this proposed action, and there is no information in the record inconsistent with the stated goal of E.O. 12898 of achieving EJ for people of color, low-income populations, and Indigenous peoples.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: May 10, 2024.
Jeaneanne Gettle,
Acting Regional Administrator, Region 4.

[FR Doc. 2024-10713 Filed 5-16-24; 8:45 am]

BILLING CODE 6560-50-P